DEPARTMENT OF COMMERCE

Census Bureau

Agency Information Collection Activities; Submission to the Office of Management and Budget (OMB) for Review and Approval; Comment Request; Business Enterprise Research and Development Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Business Enterprise Research and Development Survey, prior to the submission of the information collection request (ICR) to OMB for approval.

DATES: To ensure consideration, comments regarding this proposed information collection must be received on or before July 29, 2024.

ADDRESSES: Interested persons are invited to submit written comments by email to Thomas.J.Smith@census.gov. Please reference Business Enterprise Research and Development Survey in the subject line of your comments. You may also submit comments, identified by Docket Number USBC-2024-0014, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Flaherty, U.S. Census Bureau, Chief, Research, Development & Innovation Surveys Branch, 301-763-7699, michael.j.flaherty@census.gov.

SUPPLEMENTARY INFORMATION:

I. Abstract

The U.S. Census Bureau, with support from the National Center for Science and Engineering Statistics (NCSES) within the National Science Foundation, plans to conduct the Business Enterprise Research and Development Survey (BERD) for the 2024-2026 survey years. BERD covers all domestic, non-farm, for-profit businesses with at least 10 paid employees. BERD provides the only comprehensive national data on Research and Development (R&D) costs and detailed expenses by type and industry.

The Census Bureau has conducted a business R&D survey since 1957, collecting primarily financial information on the systematic work companies undertake to discover new knowledge or use existing knowledge to develop new or improved goods and services.

The 2024-2026 BERD will continue to collect the following types of information:

• R&D expense based on accepted accounting standards.

• Worldwide R&D of U.S. companies.

• Business segment detail.

• R&D-related capital expenditures.

• Detailed data about the R&D workforce.

• R&D strategy and data on the potential impact of R&D on the market.

• R&D directed to application areas of particular national interest.

• Data measuring intellectual property protection activities and technology transfer.

Domestic and foreign researchers in academia, business, and government analyze and cite data from the BERD. Among the federal government users are the Bureau of Economic Analysis (BEA) and the White House's Office of Science and Technology Policy (OSTP). BEA includes R&D in the system of national accounts that measures the economic well-being of the country. BERD data are key inputs into these accounts, which feed into the calculation of the U.S. Gross Domestic Product (GDP). The White House, in 2006, issued the American Competitiveness Initiative to “increase investments in research and development, strengthen education, and encourage entrepreneurship.” In support of this initiative and in response to legislative mandates, data on R&D are delivered to OSTP, primarily in the biennial National Science Board report Science and Engineering Indicators. Also, the National Science Foundation (NSF) produces a series of publications containing R&D data including the National Patterns of R&D Resources series, the S&E State Profile series, and the annual Business Enterprise Research and Development Survey series. Special reports and other publications are also prepared.

II. Method of Collection

BERD utilizes an online survey instrument. Respondents are mailed and emailed letters directing them to create a Census account and access the survey through their account. The online survey automatically skips questions that do not apply [based on previous responses] and checks for common errors. Links to detailed question-by-question instructions will be embedded in the electronic instrument. Excel spreadsheets are available to facilitate the electronic collection of information from various areas of the companies. A consolidator spreadsheet is also available to assist companies that need to gather information from business units and then compile the information into one company report.

Limited data can be taken over the phone should companies choose to call and wish to report that way.

III. Data

OMB Control Number: 0607-0912.

Form Number(s): BRD-1.

Type of Review: Regular submission, Request for an Extension, without Change, of a Currently Approved Collection.

Affected Public: For-profit businesses with at least 10 paid employees.

Estimated Number of Respondents: 47,500.

Estimated Time per Response: 2 Hours and 37 Minutes.

Estimated Total Annual Burden Hours: 124,450.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C., sections 8(b), 131 and 182; title 42, U.S.C. 1861-76 (National Science Foundation Act of 1950, as amended).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-11680 Filed 5-28-24; 8:45 am]

BILLING CODE 3510-07-P